DEPARTMENT OF JUSTICE

Drug Enforcement Administration

[Docket No. DEA-694]

Importer of Controlled Substances Application: Chattem Chemicals Inc

ACTION: Notice of application.

DATES: Registered bulk manufacturers of the affected basic class(es), and applicants therefore, may file written comments on or objections to the issuance of the proposed registration on or before September 2, 2020. Such persons may also file a written request for a hearing on the application on or before September 2, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All request for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on July 20, 2020, Chattem Chemicals Inc., 3801 Saint Elmo Avenue, Chattanooga, Tennessee 37409-1237, applied to be registered as an importer of the following basic class(es) of controlled substances:

Controlled substance | Drug code | Schedule
Methamphetamine | 1105 | II
4-Anilino-N-phenethyl-4-piperidine (ANPP) | 8333 | II
Phenylacetone | 8501 | II
Coca Leaves | 9040 | II
Opium, raw | 9600 | II
Poppy Straw Concentrate | 9670 | II
Tapentadol | 9780 | II

The company plans to import the listed controlled substances to manufacture bulk controlled substances for sale to its customers. The company plans to import an intermediate of Tapentadol (9780), to bulk manufacture Tapentadol for distribution to its customers.

William T. McDermott,
Assistant Administrator.

[FR Doc. 2020-16773 Filed 7-31-20; 8:45 am]

BILLING CODE 4410-09-P